DEPARTMENT OF ENERGY

Federal Energy Regulatory Commission

[Docket No. CP04-358-000]

Algonquin Gas Transmission Company; Notice of Application

June 22, 2004.

Take notice that on June 14, 2004, Algonquin Gas Transmission Company (Algonquin) filed in Docket No. CP04-358-000 an application pursuant to section 7 of the Natural Gas Act (NGA) seeking a certificate of public convenience and necessity to construct, own, and operate 1.44 miles of 24-inch pipeline and appurtenant facilities in the City of Providence, Rhode Island, and also to establish initial rates for the facilities. The Algonquin facilities will provide a direct connection between the existing liquefied natural gas facility (LNG) of KeySpan LNG, L.P., with upgrades as described in Docket Nos. CP04-223-000 and CP04-293-000, and Algonquin's existing pipeline system. Algonquin states that the pipeline facilities are designed to provide firm transportation service for BG LNG Services, LLC of up to 500,000 Dth/day, as more fully described in its application.

Algonquin states that these applications are on file with the Commission and open to public inspection and are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any initial questions regarding these applications should be directed to Steven E. Tillman, General Manager, Regulatory Affairs, Algonquin, Gas Transmission Company, P.O. Box 1642, Houston, Texas 77251-1642, phone: (713) 627-5113.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Those providing environmental comments will be placed on the Commission's environmental mailing list, will receive copies of the environmental documents, and will be notified of meetings associated with the Commission's environmental review process. The environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see 18 CFR 385.2001(a)(1)(iii) and the instructions on the Commission's Web site under the “e-Filing” link. The Commission strongly encourages electronic filings.

Comment Date: July 13, 2004.
Magalie R. Salas,
Secretary.

[FR Doc. E4-1432 Filed 6-28-04; 8:45 am]

BILLING CODE 6717-01-P